DEPARTMENT OF COMMERCE

[Docket No.: 150421388-5516-02]

Privacy Act New System of Records

AGENCY: International Trade Administration (ITA), Department of Commerce (DOC).

ACTION: Notice; Commerce/ITA-8, Salesforce Customer Relationship Management System.

SUMMARY: The Department of Commerce (Commerce) publishes this notice to announce the effective date of a Privacy Act System of Records entitled Commerce/ITA-8, Salesforce Customer Relationship Management System.

The notice of proposed amendment to this system of records was published in the Federal Register on May 11, 2015.

DATES: The system of records becomes effective on June 18, 2015.

ADDRESSES: For a copy of the system of records please mail requests to Lois V. Mockabee, International Trade Administration Privacy Act Officer, Room 21023, U.S. Department of Commerce, 1401 Constitution Avenue NW., Washington, DC 20230.

FOR FURTHER INFORMATION CONTACT: Lois V. Mockabee, International Trade Administration Privacy Act Officer, Room 21023, U.S. Department of Commerce, 1401 Constitution Avenue NW., Washington, DC 20230. Telephone: (202) 482-06111.

SUPPLEMENTARY INFORMATION: On May 11, 2015, the Department of Commerce published and requested comments on a proposed Privacy Act System of Records entitled Commerce/ITA-8, Salesforce Customer Relationship Management System (80 FR 26893). No comments were received in response to the request for comments. By this notice, the Department is adopting the proposed system as final without changes effective June 18, 2015.

Dated: June 15, 2015.
Brenda Dolan,
Freedom of Information and Privacy Act Officer, U.S. Department of Commerce.

[FR Doc. 2015-15019 Filed 6-17-15; 8:45 am]

BILLING CODE 3510-25-P